DEPARTMENT OF AGRICULTURE

National Institute of Food and Agriculture

Solicitation of Input From Stakeholders Regarding the Integrated Forest Products Research Program

AGENCY: National Institute of Food and Agriculture, Department of Agriculture.

ACTION: Notice of Request for Stakeholder Input.

SUMMARY: As part of the National Institute of Food and Agriculture's (NIFA) strategy to successfully implement the Integrated Forest Products Research (FPR) program and specifically design a response to current and emerging wood utilization issues, NIFA is soliciting stakeholder input that will allow it to identify the needs and opportunities of the different regions of the country but within a national needs framework. The focus of the stakeholder input is to gather topic areas for research which will be used in developing the priority research areas for the Request for Applications (RFA) in Fiscal Year (FY) 2013.

DATES: All written comments must be received by May 15, 2013.

ADDRESSES: You may submit comments, identified by NIFA-2013-0009, by any of the following methods:

Federal eRulemaking Portal: http://www.regulations.gov. Follow the instructions for submitting comments.

Email: policy@nifa.usda.gov. Include NIFA-2013-0009 in the subject line of the message.

Fax: (202) 401-1706.

Mail: Paper, disk or CD-ROM submissions should be submitted to: Catalino Blanche, NPL, Environmental Systems Division, Institute of Bioenergy, Climate and Environment, USDA/NIFA, Mail Stop 2210, 1400 Independence Avenue SW., Washington, DC 20250-2210.

Hand Delivery/Courier: Catalino Blanche, NPL, Environmental Systems Division, Institute of Bioenergy, Climate and Environment, USDA/NIFA Room 3271, Waterfront Centre, 800 9th Street SW., Washington, DC 20024.

Instructions: All submissions received must include the agency name and reference to NIFA-2013-0009. All comments received will be posted to http://www.regulations.gov, including any personal information provided.

FOR FURTHER INFORMATION CONTACT: Dr. Catalino A. Blanche, (202) 401-4190 (phone), (202) 401-1706 (fax), or cblanche@nifa.usda.gov.

SUPPLEMENTARY INFORMATION: Overall the FPR Program provides creative and innovative science and technology and advanced business practices that enhance the domestic and global competitiveness of the U.S. wood products industry. Specifically, it addresses utilization needs of hardwood, southern conifer and western conifer resources. Because of the limited amount of funding for FPR, last year's RFA focused on creating new and improved wood uses and value-added products. Eligibility for the FPR is open to State agricultural experiment stations, land-grant colleges and universities, research foundations established by land-grant colleges and universities, colleges and universities receiving funds under the Act of October 10, 1962 (16 U.S.C. 582a et seq.), and accredited schools or colleges of veterinary medicine.

Background and Purpose

The FPR program was first funded by Congress in the FY 2012 Appropriations as a special research grant to be awarded competitively. The intent is to stimulate the generation of new knowledge and transfer technologies that are necessary to balance the sustainable use of U.S. forest resources and to maintain a vigorous, globally competitive domestic forest products industry. The FPR program is specifically designed to respond to current and emerging wood utilization issues, create new and improved value-added products, and provide technical information for the production of cross laminated timber from our Nation's wood supply, which are critical to the sustainability of the national economy.

Implementation Plans

NIFA plans to consider stakeholder input received from this notice in developing the FY 2013 RFA. NIFA anticipates releasing the FY 2013 RFA in mid June, 2013.

Done in Washington, DC, this 9th day of April, 2013.
Ralph A. Otto,
Deputy Director, National Institute of Food and Agriculture.

[FR Doc. 2013-08781 Filed 4-12-13; 8:45 am]

BILLING CODE 3410-22-P